DEPARTMENT OF ENERGY

Federal Energy Regulatory Commission

18 CFR Part 292

[Docket No. RM09-23-000]

Revisions to Form, Procedures and Criteria for Certification of Qualifying Facility Status for a Small Power Production or Cogeneration Facility

AGENCY: Federal Energy Regulatory Commission, DOE.

ACTION: Final rule; correcting amendment.

SUMMARY: This document contains corrections to the final regulations (Docket No. RM09-23-000) which were published in the Federal Register of Tuesday, March 30, 2010 (75 FR 15950). The final rule document adopted revisions to FERC Form 556 and to Commission procedures and criteria for the certification of qualifying status for a small power production or cogeneration facility.

DATES: Effective date: February 21, 2012.

FOR FURTHER INFORMATION CONTACT: S.L. Higginbottom (Legal Information), Office of the General Counsel, Federal Energy Regulatory Commission, 888 First Street NE., Washington, DC 20426. Telephone: 202-502-8561, Email: samuel.higginbottom@ferc.gov.

SUPPLEMENTARY INFORMATION: The final regulations that are the subject of these regulations amended 18 CFR 292.602(c) and affect the Commission's grant of exemption of qualifying small power production facilities and cogeneration facilities from certain Federal and State laws and regulations.

As published, the final regulations contained errors which involved the removal of subparagraphs from 18 CFR 292.602(c)(1). These subparagraphs contain critical information concerning which state laws apply to qualifying small power production facilities and qualifying cogeneration facilities.

List of Subjects in 18 CFR Part 292

Electric power, Electric power plants, Electric utilities.

Kimberly D. Bose,
Secretary.

Accordingly, 18 CFR part 292 is corrected by making the following correcting amendment:

Subchapter K—Regulations Under the Public Utility Regulatory Policies Act of 1978

PART 292—REGULATIONS UNDER SECTION 201 AND 210 OF THE PUBLIC UTILITY REGULATORY POLICIES ACT OF 1978 WITH REGARD TO SMALL POWER PRODUCTION AND COGENERATION

1. The authority citation for part 292 continues to read as follows:

Authority: 16 U.S.C. 791a-825r, 2601-2645; 31 U.S.C. 9701; 42 U.S.C. 7101-7352.

2. Section 292.602(c) is amended by adding paragraphs (c)(1)(i) and (c)(1)(ii) to read as follows:

§ 292.602 Exemption to qualifying facilities from the Public Utility Holding Company Act of 2005 and certain State laws and regulations.

* * * * *

(c) * * *

(1) * * *

(i) The rates of electric utilities; and

(ii) The financial and organizational regulation of electric utilities.

* * * * *

[FR Doc. 2012-3811 Filed 2-17-12; 8:45 am]

BILLING CODE 6717-01-P